DEPARTMENT OF TRANSPORTATION

Federal Aviation Administration

14 CFR Part 39

[Docket No. FAA-2025-0758; Project Identifier MCAI-2024-00651-T]

RIN 2120-AA64

Airworthiness Directives; Airbus SAS Airplanes

AGENCY: Federal Aviation Administration (FAA), DOT.

ACTION: Notice of proposed rulemaking (NPRM).

SUMMARY: The FAA proposes to supersede Airworthiness Directive (AD) 2022-15-05, which applies to certain Airbus SAS Model A318 series airplanes; Model A319-111, -112, -113, -114, -115, -131, -132, and -133 airplanes; Model A320-211, -212, -214, -216, -231, -232, and -233 airplanes; and Model A321-111, -112, -131, -211, -212, -213, -231, and -232 airplanes. AD 2022-15-05 requires repetitive high frequency eddy current (HFEC) inspections for cracks on the web horizontal flange and inner cap, and applicable corrective actions. Since the FAA issued AD 2022-15-05, additional cracks have been found at the door stop fitting number 1 holes at frame (FR) 68, after disassembly of the door stop fitting as part of the inspections required by AD 2022-15-05. This proposed AD would continue to require the actions in AD 2022-15-05, but with reduced compliances times for some inspections, and would require an additional inspection at door stop fitting number 1, as specified in a European Union Aviation Safety Agency (EASA) AD, which is proposed for incorporation by reference. The FAA is proposing this AD to address the unsafe condition on these products.

DATES: The FAA must receive comments on this proposed AD by June 30, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0758; or in person at Docket Operations between 9 a.m. and 5 p.m., Monday through Friday, except Federal holidays. The AD docket contains this NPRM, the mandatory continuing airworthiness information (MCAI), any comments received, and other information. The street address for Docket Operations is listed above.

Material Incorporated by Reference:

• For EASA material identified in this proposed AD, contact EASA, Konrad-Adenauer-Ufer 3, 50668 Cologne, Germany; telephone +49 221 8999 000; email ADs@easa.europa.eu; website easa.europa.eu. You may find this material on the EASA website at ad.easa.europa.eu. It is also available at regulations.gov under Docket No. FAA-2025-0758.

• You may view this material at the FAA, Airworthiness Products Section, Operational Safety Branch, 2200 South 216th St., Des Moines, WA. For information on the availability of this material at the FAA, call 206-231-3195.

FOR FURTHER INFORMATION CONTACT: Nathan Weigand, Aviation Safety Engineer, FAA, 2200 South 216th St., Des Moines, WA 98198; phone: 206-231-3531; email: nathan.p.weigand@faa.gov.

SUPPLEMENTARY INFORMATION:

Comments Invited

The FAA invites you to send any written relevant data, views, or arguments about this proposal. Send your comments to an address listed under the ADDRESSES section. Include “Docket No. FAA-2025-0758; Project Identifier MCAI-2024-00651-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Nathan Weigand, Aviation Safety Engineer, FAA, 2200 South 216th St., Des Moines, WA 98198; phone: 206-231-3531; email: nathan.p.weigand@faa.gov. Any commentary that the FAA receives which is not specifically designated as CBI will be placed in the public docket for this rulemaking.

Background

The FAA issued AD 2022-15-05, Amendment 39-22125 (87 FR 45013, July 27, 2022) (AD 2022-15-05), for all Airbus SAS Model A318-111, A318-112, A318-121, A318-122, A319-111, A319-112, A319-113, A319-114, A319-115, A319-131, A319-132, A319-133, A320-211, A320-212, A320-214, A320-216, A320-231, A320-232, A320-233, A321-111, A321-112, A321-131, A321-211, A321-212, A321-213, A321-231, and A321-232 airplanes, except those airplanes with certain modifications installed that convert the airplane to a corporate jet. AD 2022-15-05 was prompted by MCAI originated by EASA, which is the Technical Agent for the Member States of the European Union. EASA issued AD 2022-0030, dated February 25, 2022 (EASA AD 2022-0030), to correct an unsafe condition identified as cracks on the web horizontal flange and inner cap on FR 68, left-hand (LH) and right-hand (RH) sides, at stringer (STGR) 22, which could result in reduced structural integrity of the fuselage.

AD 2022-15-05 requires repetitive HFEC inspections for cracks on the web horizontal flange and inner cap and applicable corrective actions in accordance with EASA AD 2022-0030, which specifies using the original or later-approved revisions of Airbus Service Bulletin A320-53-1491. The FAA issued AD 2022-15-05 to address a report that during the inspection for the door stop fitting holes at FR 66 and FR 68 required by EASA AD 2016-0238, dated December 2, 2016; corrected January 4, 2017 (which prompted FAA AD 2018-03-12, Amendment 39-19185 (83 FR 5906, February 12, 2018)), cracks were found on the web horizontal flange and inner cap on FR 68, LH and RH sides, at STGR 22.

Actions Since AD 2022-15-05 Was Issued

Since the FAA issued AD 2022-15-05, EASA superseded EASA AD 2022-0030, dated February 25, 2022, and issued EASA AD 2024-0210, dated October 29, 2024 (EASA AD 2024-0210) (also referred to as “the MCAI”), for all Airbus SAS Model A318-111, A318-112, A318-121, A318-122, A319-111, A319-112, A319-113, A319-114, A319-115, A319-131, A319-132, A319-133, A320-211, A320-212, A320-214, A320-215, A320-216, A320-231, A320-232, A320-233, A321-111, A321-112, A321-131, A321-211, A321-212, A321-213, A321-231, and A321-232 airplanes, except those airplanes with certain modifications installed that convert the airplane to a corporate jet. The MCAI states that after EASA AD 2022-0030 was issued, cracks have been found at the door stop fitting number 1 holes at FR 68, after the door stop fitting disassembly as part of the inspections in Airbus Service Bulletin A320-53-1491 Revision 1. Therefore, Airbus issued revision 2 of its service bulletin to include an additional inspection of the FR 68 door stop fitting number 1 holes with a larger inspection area, and an additional HFEC inspection on FR68 around the door stop fitting number 1 nuts. Some compliance times have been reduced and the procedures in the service bulletin have been updated.

The FAA is proposing this AD to address cracks on the door stop 1, web horizontal flange and inner cap on FR 68, LH and RH sides, at STGR 22, which could result in reduced structural integrity of the fuselage. You may examine the MCAI in the AD docket at regulations.gov under Docket No. FAA-2025-0758.

Material Incorporated by Reference Under 1 CFR Part 51

EASA AD 2024-0210 specifies procedures for repetitive inspections of certain areas of the fuselage and taking corrective actions if there are cracks or discrepancies by following the manufacturer's service information. EASA AD 2024-0210 also specifies reporting all inspection findings to Airbus. Specifically, the inspections are high frequency eddy current inspections of the frame horizontal flange radii, inner cap fillet radius, the door stop 1 fasteners, and the frame inner cap corner at FR 68. The instructions for the inspections depend on whether a repair part has been installed. On-condition corrective actions include additional inspections for cracking, inspections to determine if a certain modification or repair was done, and repair of cracking at the web horizontal flange. This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI referenced above. The FAA is issuing this NPRM after determining that the unsafe condition described previously is likely to exist or develop in other products of the same type design.

Proposed AD Requirements in This NPRM

This proposed AD would retain all the requirements of AD 2022-15-05, with reduced compliance times for some actions, additional inspections, and updated procedures and figures. This proposed AD would require accomplishing the actions specified in EASA AD 2024-0210 described previously, except for any differences identified as exceptions in the regulatory text of this proposed AD. See “Differences Between This NPRM and the MCAI” for a discussion of these differences.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2024-0210 by reference in the FAA final rule. This proposed AD would, therefore, require compliance with EASA AD 2024-0210 in its entirety through that incorporation, except for any differences identified as exceptions in the regulatory text of this proposed AD. Using common terms that are the same as the heading of a particular section in EASA AD 2024-0210 does not mean that operators need to comply only with that section. For example, where the AD requirement refers to “all required actions and compliance times,” compliance with this AD requirement is not limited to the section titled “Required Action(s) and Compliance Time(s)” in EASA AD 2024-0210. Material required by EASA AD 2024-0210 for compliance will be available at regulations.gov under Docket No. FAA-2025-0758 after the FAA final rule is published.

Differences Between This NPRM and the MCAI

Where the MCAI specifies reporting information to the manufacturer, this NPRM does not propose to require reporting. The FAA has determined that it does not need the data from the reports.

Although the MCAI applies to Model A320-215 airplanes, this proposed AD would not because that model does not have an FAA type certificate.

Costs of Compliance

The FAA estimates that this AD, if adopted as proposed, would affect 1,924 airplanes of U.S. registry. The FAA estimates the following costs to comply with this proposed AD:

Estimated Costs for Required Actions
Action | Labor cost | Parts cost | Cost per product | Cost on U.S. operators
Inspection for repair part | 1 work-hour × $85 per hour = $85 | $0 | $85 | $163,540.
High frequency eddy current inspection | 27 work-hours × $85 per hour = $2,295 per inspection cycle | 0 | $2,295 per inspection cycle | $4,415,580 per inspection cycle.

The FAA estimates the following costs to do any on-condition inspections that would be required based on the results of the high frequency eddy current inspections. The FAA has no way of determining the number of airplanes that might need these on-condition inspections:

Estimated Costs of On-Condition Actions
Action | Labor cost | Parts cost | Cost per product
On-condition inspections | Up to 30 work-hours × $85 per hour = $2,550 | $0 | Up to $2,550.

The extent of cracking and other conditions found during the inspections could vary significantly from airplane to airplane. The FAA has no way of determining which conditions may be found on each airplane, the cost to correct or repair each airplane, or the number of airplanes that may require repair.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-15-05, Amendment 39-22125 (87 FR 45013, July 27, 2022); and

b. Adding the following new AD:

Airbus SAS: Docket No. FAA-2025-0758; Project Identifier MCAI-2024-00651-T.

(a) Comments Due Date

The FAA must receive comments on this airworthiness directive (AD) by June 30, 2025.

(b) Affected ADs

This AD replaces AD 2022-15-05, Amendment 39-22125 (87 FR 45013, July 27, 2022) (AD 2022-15-05).

(c) Applicability

This AD applies to Airbus SAS Model airplanes identified in paragraphs (c)(1) through (4) of this AD, certificated in any category, as identified in European Union Aviation Safety Agency (EASA) AD 2024-0210, dated October 29, 2024 (EASA AD 2024-0210).

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 53, Fuselage.

(e) Unsafe Condition

This AD was prompted by a report that cracks were found on the web horizontal flange and inner cap on frame (FR) 68, left-hand (LH) and right-hand (RH) sides, at stringer (STGR) 22, and at the door stop fitting number 1 holes at FR 68. The FAA is issuing this AD to address the cracks on the door stop 1, web horizontal flange and inner cap on FR 68, LH and RH sides, at STGR 22. The unsafe condition, if not addressed, could result in reduced structural integrity of the fuselage.

(f) Compliance

Comply with this AD within the compliance times specified, unless already done.

(g) Requirements

Except as specified in paragraphs (h) and (i) of this AD: Comply with all required actions and compliance times specified in, and in accordance with, EASA AD 2024-0210.

(h) Exceptions to EASA AD 2024-0210

(1) Where EASA AD 2024-0210 refers to “22 November 2021 [the effective date of EASA AD 2021-0242]”, this AD requires using August 31, 2022 (the effective date of AD 2022-15-05).

(2) Where EASA AD 2024-0210 refers to its effective date, this AD requires using the effective date of this AD.

(3) Where paragraph (1) of EASA AD 2024-0210 refers to “the SDI”, this AD requires replacing that text with “the applicable inspections”.

(4) This AD does not adopt the “Remarks” section of EASA AD 2024-0210.

(5) This AD does not adopt paragraphs (2) and (3) of EASA AD 2024-0210.

(6) Where paragraph (4) of EASA AD 2024-0210 states “discrepancies”, this AD requires replacing that word with “conditions”.

(7) Where paragraph (4) of EASA AD 2024-0210 states “within the compliance time specified therein”, this AD requires replacing that text with “before further flight”.

(8) Where paragraph (6) of EASA AD 2024-0210 specifies “the instructions provided by Airbus”, for this AD, those instructions must be approved by the FAA, EASA, or Airbus SAS's EASA DOA. If approved by the DOA, the approval must include the DOA-authorized signature.

(i) No Reporting Requirement

Although paragraph (7) of and the material referenced in EASA AD 2024-0210 specify to submit certain information to the manufacturer, this AD does not include that requirement.

(j) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Continued Operational Safety Branch, FAA; or EASA; or Airbus SAS's EASA Design Organization Approval (DOA). If approved by the DOA, the approval must include the DOA-authorized signature.

(3) Required for Compliance (RC): Except as required by paragraphs (h), (i), and (j)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Nathan Weigand, Aviation Safety Engineer, FAA, 2200 South 216th St., Des Moines, WA 98198; phone: 206-231-3531; email: nathan.p.weigand@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0210, dated October 29, 2024.

(ii) [Reserved]

(3) For EASA material identified in this AD, contact EASA, Konrad-Adenauer-Ufer 3, 50668 Cologne, Germany; telephone +49 221 8999 000; email ADs@easa.europa.eu; website easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on May 12, 2025.
Peter A. White,
Deputy Director, Integrated Certificate Management Division, Aircraft Certification Service.

[FR Doc. 2025-08664 Filed 5-15-25; 8:45 am]

BILLING CODE 4910-13-P